ENVIRONMENTAL PROTECTION AGENCY

40 CFR Part 52

[EPA-R04-OAR-2013-0772; FRL-9921-83-Region-4]

Approval and Promulgation of Implementation Plans; North Carolina; Inspection and Maintenance Program Updates

AGENCY: Environmental Protection Agency.

ACTION: Withdrawal of direct final rule.

SUMMARY: Due to the receipt of adverse comments, the Environmental Protection Agency (EPA) is withdrawing the November 20, 2014, direct final rule to approve North Carolina's January 31, 2008, May 24, 2010, October 11, 2013, and February 11, 2014, State Implementation Plan (SIP) submissions pertaining to changes to the North Carolina Inspection and Maintenance (I/M) program. EPA will address the adverse comments in a subsequent final action based on the parallel proposal also published on November 20, 2014. As stated in the proposal, EPA will not institute a second comment period on this action.

DATES: The direct final rule published at 79 FR 69051 on November 20, 2014, is withdrawn as of January 20, 2015.

FOR FURTHER INFORMATION CONTACT: Nacosta Ward, Air Planning Branch, U.S. Environmental Protection Agency Region 4, 61 Forsyth Street SW., Atlanta, Georgia 30303-8960. Phone number: (404) 562-9140; Email: ward.nacosta@epa.gov.

SUPPLEMENTARY INFORMATION: On November 20, 2014 (79 FR 69051), EPA published a direct final rulemaking to approve North Carolina's January 31, 2008, May 24, 2010, October 11, 2013, and February 11, 2014, SIP submissions that pertain to changes to the North Carolina I/M program. In the direct final rule, EPA stated that if adverse comments were received by December 22, 2014, EPA would publish a notice in the Federal Register withdrawing the final rule and informing the public that the rule would not take effect. EPA received comments on December 17, 2014, and December 19, 2014. EPA interprets the comments received on December 19, 2014 as adverse and, therefore, is withdrawing the direct final rule. EPA will address the adverse comments in a subsequent final action based upon the proposed rulemaking action, also published on November 20, 2014 (79 FR 69090). As stated in the proposed rulemaking, EPA will not institute a second comment period on this action.

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: January 5, 2015.
V. Anne Heard,
Acting Regional Administrator, Region 4.

Accordingly, the revised entries in 40 CFR 52.1770 (c) for “Sect .1002,” “Sect .1003,” and “Sect .1005”, the removal of the entry for “Sect .1004,” and the addition of the last entry to 40 CFR 52.1770 (e) “Non-Interference Demonstration for the North Carolina Inspection and Maintenance Program,” which published in the Federal Register on November 20, 2014, at 79 FR 69051 are withdrawn as of January 20, 2015.

[FR Doc. 2015-00775 Filed 1-16-15; 8:45 am]

BILLING CODE 6560-50-P